SOCIAL SECURITY ADMINISTRATION

[Docket No. SSA-2023-0046]

Privacy Act of 1974; Matching Program

AGENCY: Social Security Administration (SSA).

ACTION: Notice of a new matching program.

SUMMARY: In accordance with the provisions of the Privacy Act, as amended, this notice announces a new matching program with Office of Personnel Management (OPM). This matching program sets forth the terms, conditions, and safeguards under which SSA uses identifying information (e.g., name, Social Security number (SSN), and date of birth) concerning United States Postal Service (Postal Service) annuitants and their family members as part of a process to verify eligibility to enroll in Medicare Part B during the Postal Service Reform Act of 2022 (PSRA) Medicare special enrollment period (SEP).

DATES: Submit comments on the proposed matching program no later than January 22, 2024.

The matching program will be applicable on January 20, 2024, or once a minimum of 30 days after publication of this notice has elapsed, whichever is later. The matching program will be in effect for a period of 9 months.

ADDRESSES: You may submit comments by any one of three methods—internet, fax, or mail. Do not submit the same comments multiple times or by more than one method. Regardless of which method you choose, please state that your comments refer to Docket No. SSA-2023-0046 so that we may associate your comments with the correct regulation. CAUTION: You should be careful to include in your comments only information that you wish to make publicly available. We strongly urge you not to include in your comments any personal information, such as Social Security numbers or medical information.

1. Internet: We strongly recommend that you submit your comments via the internet. Please visit the Federal eRulemaking portal at http://www.regulations.gov. Use the Search function to find docket number SSA-2023-0046 and then submit your comments. The system will issue you a tracking number to confirm your submission. You will not be able to view your comment immediately because we must post each submission manually. It may take up to a week for your comments to be viewable.

2. Fax: Fax comments to (410) 966-0869.

3. Mail: Matthew Ramsey, Executive Director, Office of Privacy and Disclosure, Office of the General Counsel, Social Security Administration, 6401 Security Boulevard, Baltimore, MD 21235-6401, or emailing Matthew.Ramsey@ssa.gov. Comments are also available for public viewing on the Federal eRulemaking portal at http://www.regulations.gov or in person, during regular business hours, by arranging with the contact person identified below.

FOR FURTHER INFORMATION CONTACT: Interested parties may submit general questions about the matching program to Cynthia Scott, Division Director, Office of Privacy and Disclosure, Office of the General Counsel, Social Security Administration, 6401 Security Boulevard, Baltimore, MD 21235-6401, at telephone: (410) 965-1416, or send an email to Cynthia.Scott@ssa.gov.

SUPPLEMENTARY INFORMATION: None.

Matthew Ramsey,
Executive Director, Office of Privacy and Disclosure, Office of the General Counsel.

Participating Agencies: SSA and OPM.

Authority for Conducting the Matching Program: This Agreement is executed under the Privacy Act of 1974 (5 U.S.C. 552a), as amended by the Computer Matching and Privacy Protection Act (CMPPA) of 1988, Public Law 100-503, 102 Stat. 2507 (1988), as amended, and the Computer Matching and Privacy Protection Amendments of 1990 (Privacy Act), (Pub. L. 101-508, 104 Stat. 143 (1990)), and the regulations and guidance promulgated thereunder.

Legal authority for OPM's disclosures under this agreement are the Privacy Act (5 U.S.C. 552a(b)(1) & (3)) and section 101(c) of the PSRA (Pub. L. 117-108, Title I, 101(c); 5 U.S.C. 8903c note).

Section 1837(o) of the Social Security Act (42 U.S.C. 1395p(o)) authorizes a one-time Medicare Part B PSRA SEP for certain eligible Postal Service annuitants and their family members.

Purpose(s): This matching program sets forth the terms, conditions, and safeguards under which SSA uses identifying information (e.g., name, SSN, and date of birth) concerning Postal Service annuitants and their family members as part of a process to verify eligibility to enroll in Medicare Part B during the PSRA SEP. This one-time PSRA SEP will occur during a 6-month period beginning on April 1, 2024, and ending on September 30, 2024.

Categories of Individuals: The individuals whose information is involved in this matching program are Postal Service annuitants and their family members.

Categories of Records: SSA will maintain an OPM SEP reference list, which includes Postal Service annuitants' and family members' SSN, name, and date of birth who are not enrolled in Medicare Part B.

System(s) of Records: SSA will maintain the information concerning Postal Service annuitants and family members in the Claims Folders System, 60-0089, last fully published at 84 FR 58422 (October 31, 2019) for the period needed to support the PSRA SEP.

[FR Doc. 2023-28104 Filed 12-20-23; 8:45 am]

BILLING CODE 4191-02-P